DEPARTMENT OF STATE

[Public Notice 6713]

Bureau of Oceans and International Environmental and Scientific Affairs; Preparation of Fifth U.S. Climate Action Report

AGENCY: Department of State.

ACTION: Notice.

SUMMARY: The United States is a Party to the United Nations Framework Convention on Climate Change (UNFCCC). The Convention sets forth requirements for UNFCCC Parties to provide a national communication that lists the steps they are taking to implement the Convention. In particular, Parties are to provide: An inventory of anthropogenic emissions by sources and removal by sinks of all greenhouse gases not controlled by the Montreal Protocol; a detailed description of the policies and measures adopted to implement their commitments under the Convention; and estimates of the effects those policies and measures will have on emissions and sinks. Subsequent guidelines further elaborate the information that Parties are to submit periodically. The United States submitted the first U.S. Climate Action Report (USCAR) to the UNFCCC Secretariat in 1994, the second in 1997, the third in 2002, and the fourth in 2007. The U.S. Government is currently preparing its fifth national communication, which is due to the UNFCCC secretariat on January 1, 2010. The purpose of this announcement is to notify interested members of the public of this process and to solicit contributions and input on the issues covered in the national communication for the purpose of preparing the report. The State Department intends to make available for public review a draft national communication in fall of 2009.

DATES: Written comments should be received on or before noon, thirty (30) days from the date of publication of this notice.

ADDRESSES: To expedite their receipt, comments should be submitted via e-mail to: car5@state.gov. Comments may also be submitted in hard copy to, U.S. Department of State, Bureau of Oceans and International Environmental and Scientific Affairs, Office of Global Change (Room 2480), 2201 C Street, NW., Washington, DC 20520.

FOR FURTHER INFORMATION CONTACT: Maurice N. LeFranc, Jr., U.S. Department of State, Bureau of Oceans and International Environmental and Scientific Affairs, Office of Global Change at (202) 647-6738.

SUPPLEMENTARY INFORMATION:

The Fifth United States Climate Action Report (CAR5)

Articles 4.2 and 12 of the UNFCCC set forth initial requirements for national communications. Subsequently, Parties to the UNFCCC elaborated additional detailed guidelines relating to the content of the national communications. An overview of the reporting requirements is available from the UNFCCC Web site at: http://unfccc.int/resource/docs/cop5/07.pdf. Guidelines specify chapter headings and the type of information that should be included in the report. Chapters are identified below.

Table of Contents

I. Executive Summary

II. National Circumstances

III. Greenhouse Gas Inventory

IV. Policies and Measures

V. Projections and Effects of Policies and Measures

VI. Vulnerability Assessment, Climate Change Impacts, and Adaptation Measures

VII. Financial Resources and Transfer of Technology

VIII. Research and Systematic Observation

IX. Education, Training, and Public Awareness

In keeping with UNFCCC guidelines, the fifth CAR will provide an inventory of U.S. greenhouse gas emissions and sinks and an estimate of the effects of mitigation policies and measures on future emissions levels. It will describe domestic programs as well as U.S. involvement in international efforts, including technology programs and associated contributions and funding. In addition, the text will include a discussion of national circumstances that affect U.S. vulnerability and responses to climate change.

Public Input Process

This Federal Register notice solicits contributions and comments on all matters to be covered in the fifth U.S. CAR and in particular, on issues related to non-federal, state, regional, local, and private sector actions to address climate change. Comments may be submitted to using the e-mail address above or by mail to the contact listed above.

The U.S. will release the draft text of the fourth CAR for review and comment in the fall of 2009. Comments on that document will be due within 30 days of release. Because of the time constraints on completing and printing the final text, a longer review period will not be possible.

We invite input on all aspects of the document currently under development. Comments received in response to this Federal Register notice will be considered in the preparation of the draft of the fifth national communication.

You may view the fourth U.S. Climate Action Report on the Internet at: http://unfccc.int/national_reports/annex_i_natcom/submitted_natcom/items/3625.php.

Dated: July 23, 2009.
Trigg Talley,
Office Director, Office of Global Change, Bureau of Oceans and International, Environmental and Scientific Affairs, Department of State.

[FR Doc. E9-18230 Filed 7-29-09; 8:45 am]

BILLING CODE 4710-09-P